DEPARTMENT OF ENERGY

Federal Energy Regulatory Commission

[Project No. 12667-029]

City of Hamilton, Ohio American Municipal Power, Inc.; Notice of Application for Transfer of License and Soliciting Comments and Motions To Intervene

April 28, 2010.

On February 26, 2010, City of Hamilton, Ohio (Hamilton) and American Municipal Power, Inc. (AMP) filed an application for a partial transfer of license of the Meldahl Hydroelectric Project No. 12677. The project would be located at the U.S. Army Corps of Engineers' (Corps) Captain Anthony Meldahl Lock and Dam on the Ohio River, near the City of Augusta, Bracken County, Kentucky.

Applicants seek Commission approval to transfer the license for the Meldahl Project from Hamilton to Hamilton and AMP.

Applicants' Contacts: City of Hamilton—Mr. Mark Brandenburger, City Manager, City of Hamilton, 345 High Street, Hamilton, OH 45011-6071 (513) 785-7000 e-mail: brandenb@ci.hamilton.oh.us. American Municipal Power, Inc.—Mr. Mark S. Gerken, P.E., President and CEO, American Municipal Power, Inc., 1111 Schrock Road, Suite 100, Columbus, OH 43229, phone (614) 540-0855, e-mail: mgerken@amppartners.org.

FERC Contact: Patricia W. Gillis, (202) 502-8735.

Deadline for filing comments and motions to intervene: 30 days from the issuance of this notice. Comments and motions to intervene may be filed electronically via the Internet. See 18 CFR 385.2001(a)(1)(iii)(2009) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the eLibrary link of Commission's Web site at http://www.ferc.gov/docs-filing/elibrary.asp. Enter the docket number (P-12667-029) in the docket number field to access the document. For assistance, call toll-free 1-866-208-3372.

Kimberly D. Bose,
Secretary.

[FR Doc. 2010-10635 Filed 5-5-10; 8:45 am]

BILLING CODE 6717-01-P